NUCLEAR REGULATORY COMMISSION

[NRC-2016-0233]

Pressurized Water Reactor Control Rod Ejection and Boiling Water Reactor Control Rod Drop Accidents; Correction

AGENCY: Nuclear Regulatory Commission.

ACTION: Notice of reissuance of draft regulatory guide; extension of comment period; correction.

SUMMARY: The U.S. Nuclear Regulatory Commission (NRC) is correcting a notice that was published in the Federal Register on July 30, 2019, regarding reissuing for public comment draft regulatory guide (DG), DG-1327, “Pressurized Water Reactor Control Rod Ejection and Boiling Water Reactor Control Rod Drop Accidents.” This action is necessary to correct the NRC Agencywide Documents Access and Management System (ADAMS) number of the DG for which NRC is soliciting comments. The public comment period was originally scheduled to close on October 30, 2019. The NRC has decided to extend the public comment period to allow more time for members of the public to develop and submit their comments.

DATES: The due date of comments requested in the document published on July 30, 2019 (84 FR 36961) is extended. Comments should be filed no later than November 18, 2019. Comments received after this date will be considered if it is practical to do so, but the NRC is able to ensure consideration only for comments received on or before this date. Although a time limit is given, comments and suggestions in connection with items for inclusion in guides currently being developed or improvements in all published guides are encouraged at any time.

ADDRESSES: You may submit comments by any of the following methods:

• Federal Rulemaking website: Go to https://www.regulations.gov/ and search for Docket ID NRC-2016-0233. Address questions about docket IDs in Regulations.gov to Jennifer Borges; telephone: 301-287-9127; email: Jennifer.Borges@nrc.gov. For technical questions, contact the individuals listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Paul Clifford, Office of Nuclear Reactor Regulation, telephone: 301-415-4043, email: Paul.Clifford@nrc.gov and Edward O'Donnell, Office of Nuclear Regulatory Research, telephone: 301-415-3317; email: Edward.ODonnell@nrc.gov. Both are staff of the U.S. Nuclear Regulatory Commission, Washington, DC 20555-0001.

SUPPLEMENTARY INFORMATION:

I. Obtaining Information and Submitting Comments

A. Obtaining Information

Please refer to Docket ID NRC-2016-0233 when contacting the NRC about the availability of information for this action. You may obtain publicly-available information related to this action by any of the following methods:

• Federal Rulemaking website: Go to https://www.regulations.gov and search for Docket ID NRC-2016-0233.

• NRC's Agencywide Documents Access and Management System (ADAMS): You may obtain publicly-available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. DG-1327 is available in ADAMS under Accession No. ML18302A106.

• NRC's PDR: You may examine and purchase copies of public documents at the NRC's PDR, Room O1-F21, One White Flint North, 11555 Rockville Pike, Rockville, Maryland 20852.

B. Submitting Comments

Please include Docket ID NRC-2016-0233 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

On July 30, 2019 (84 FR 36961), the NRC solicited comments on DG-1327, “Pressurized Water Reactor Control Rod Ejection and Boiling Water Reactor Control Rod Drop Accidents.” This document corrects the ADAMS Accession No. for DG-1327. The correct ADAMS Accession No. for DG-1327 is ML18302A106.

The public comment period was originally scheduled to close on October 30, 2019. The NRC has decided to extend the public comment period on this document until November 18, 2019, to allow more time for members of the public to submit their comments.

Dated at Rockville, Maryland, this 12th day of September, 2019.
For the Nuclear Regulatory Commission.
Thomas H. Boyce,
Chief, Regulatory Guidance and Generic Issues Branch, Division of Engineering, Office of Nuclear Regulatory Research.

[FR Doc. 2019-20133 Filed 9-17-19; 8:45 am]

BILLING CODE 7590-01-P